DEPARTMENT OF TRANSPORTATION

Federal Highway Administration

Notice of Final Federal Agency Actions on Proposed Highways in Colorado

AGENCY: Federal Highway Administration (FHWA), Department of Transportation (DOT).

ACTION: Notice of Limitation on Claims for Judicial Review of Actions by FHWA and Other Federal Agencies.

SUMMARY: This notice announces actions taken by the FHWA and other Federal agencies that are final within the meaning of 23 U.S.C. 139(l)(1). The actions relate to the Colorado State Highway 470 (C-470) Corridor, Kipling Parkway to I-25 project located in the southern portion of the Denver metropolitan area in Colorado. Those actions grant approvals for the project.

DATES: By this notice, the FHWA is advising the public of final agency actions subject to 23 U.S.C. 139(l)(1). A claim seeking judicial review of the Federal agency actions on the highway project will be barred unless the claim is filed on or before May 16, 2016. If the Federal law that authorizes judicial review of a claim provides a time period of less than 150 days for filing such claim, then that shorter time period still applies.

FOR FURTHER INFORMATION CONTACT: Stephanie Gibson, Environmental Program Manager, Federal Highway Administration Colorado Division, 12300 W. Dakota Avenue, Lakewood, Colorado 80228, 720-963-3013, Stephanie.gibson@dot.gov normal business hours are 8:30 a.m. to 5:00 p.m. (Mountain time); or Jon Chesser, Environmental Program Manager, Office of Major Projects, Colorado Department of Transportation, 4201 E. Arkansas Avenue, Shumate Building, Denver, Colorado 80222, 303-757-9936, Jonathon.chesser@state.co.us, normal business hours are 8:00 a.m. to 4:30 p.m. (Mountain time).

SUPPLEMENTARY INFORMATION: Notice is hereby given that the FHWA and other Federal agencies have taken final agency actions by issuing approvals for the following highway project in the State of Colorado: C-470, Kipling Parkway to I-25 project, also known as the C-470 Express Lanes project. Project Overview: The project involves adding one managed, tolled express lane in each direction between I-25 and Kipling Parkway, and a second managed lane as follows: westbound, I-25 to Lucent Boulevard, and eastbound, Broadway to I-25. The purpose of the project is to provide congestion relief, decrease travel delay, and improve corridor reliability between Kipling Parkway and I-25 on the C-470 corridor. The actions by the Federal agencies on the project, and the laws under which such actions were taken, are described in the Revised Environmental Assessment (EA) signed on July 24, 2015, in the Finding of No Significant Impact (FONSI) signed November 20, 2015 and in other key project documents. The Revised EA, FONSI, and other key documents for the project are available by contacting the FHWA or the Colorado Department of Transportation at the addresses provided above. The Revised EA and FONSI documents can be viewed and downloaded from the project Web site at https://www.codot.gov/projects/c470.

This notice applies to all Federal agency decisions, actions, approvals, licenses, and permits on the project as of the issuance date of this notice, including but not limited to those arising under the following laws, as amended:

1. General: National Environmental Policy Act [42 U.S.C. 4321-4370h]; Federal-Aid Highway Act [23 U.S.C. 109].

2. Air: Clean Air Act, as amended [42 U.S.C. 7401-7671(q)] (transportation conformity).

3. Land: Section 4(f) of the Department of Transportation Act of 1966 [49 U.S.C. 303]. Landscaping and Scenic Enhancement (Wildflowers) [23 U.S.C. 319].

4. Wildlife: Endangered Species Act [16 U.S.C. 1531-1544]; Fish and Wildlife Coordination Act [16 U.S.C. 661-667(e)]; Migratory Bird Treaty Act [16 U.S.C. 703-712].

5. Historic and Cultural Resources: Section 106 of the National Historic Preservation Act of 1966 [54 U.S.C. 306108] Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)]; American Indian Religious Freedom Act [42 U.S.C. 1996]; the Uniform Relocation Assistance and Real Property Acquisition Policies Act of 1970 [42 U.S.C. 61]. Farmland Protection Policy Act [7 U.S.C. 4201-4209].

7. Wetlands and Water Resources: Clean Water Act [33 U.S.C. 1251-1387] (Section 404, Section 401, Section 319); Land and Water Conservation Fund Act [16 U.S.C. 460l-4—460l-11]; Safe Drinking Water Act [42 U.S.C. 300f—300j-9.]; Rivers and Harbors Act of 1899 [33 U.S.C. 401-406]; Transportation Equity Act for the 21st Century (TEA-21) [23 U.S.C. 103(b)(6)(m), 133(b)(11)] (wetlands mitigation banking); Flood Disaster Protection Act of 1973 [42 U.S.C. 4001-4129].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Authority: 23 U.S.C. 139(l)(1).

Issued on: December 7, 2015.
John M. Cater,
Division Administrator, Lakewood, Colorado.

[FR Doc. 2015-31487 Filed 12-17-15; 8:45 am]

BILLING CODE 4910-22-P